DEPARTMENT OF COMMERCE

National Oceanic and Atmospheric Administration

Evaluation of State Coastal Management Programs

AGENCY: Office for Coastal Management (OCM), National Ocean Service (NOS), National Oceanic and Atmospheric Administration (NOAA), Department of Commerce (DOC).

ACTION: Notice

SUMMARY: The National Oceanic and Atmospheric Administration (NOAA), Office for Coastal Management will hold a public meeting to solicit comments on the performance evaluation of the Guam Coastal Management Program.

DATES: Guam Coastal Management Program Evaluation: The public meeting will be held on September 28, 2016, and written comments must be received on or before October 5, 2016.

For specific dates, times, and locations of the public meetings, see SUPPLEMENTARY INFORMATION.

ADDRESSES: You may submit comments on the program or reserve NOAA intends to evaluate by any of the following methods:

Public Meeting and Oral Comments: A public meeting will be held in Sinajana, Guam. For the specific location, see SUPPLEMENTARY INFORMATION.

Written Comments: Please direct written comments to Ralph Cantral, Senior Advisor, Policy, Planning, and Communications Division, Office for Coastal Management, NOS/NOAA, 1305 East-West Highway, 11th Floor, N/OCM1, Silver Spring, Maryland 20910, or email comments Ralph.Cantral@noaa.gov.

FOR FURTHER INFORMATION CONTACT: Ralph Cantral, Senior Advisor, Policy, Planning and Communications Division, Office for Coastal Management, NOS/NOAA, 1305 East-West Highway, 11th Floor, N/OCM1, Silver Spring, Maryland 20910, or Ralph.Cantral@noaa.gov. Copies of the previous evaluation findings and related material (including past performance reports and notices prepared by NOAA's Office for Coastal Management) may be obtained upon written request by contacting the person identified under FOR FURTHER INFORMATION CONTACT. Copies of the most recent evaluation findings and most recent progress report may also be downloaded or viewed on the Internet at http://coast.noaa.gov/czm/evaluations.

SUPPLEMENTARY INFORMATION: Section 312 of the Coastal Zone Management Act (CZMA) requires NOAA to conduct periodic evaluations of federally approved state and territorial coastal programs. The process includes one or more public meetings, consideration of written public comments and consultations with interested Federal, state, and local agencies and members of the public. During the evaluation, NOAA will consider the extent to which the state has met the national objectives, adhered to the management program approved by the Secretary of Commerce, and adhered to the terms of financial assistance under the CZMA. When the evaluation is completed, NOAA's Office for Coastal Management will place a notice in the Federal Register announcing the availability of the Final Evaluation Findings.

Specific information on the periodic evaluation of the state and territorial coastal program that is the subject of this notice is detailed below as follows:

Guam Coastal Management Program Evaluation

You may participate or submit oral comments at the public meeting scheduled as follows:

Date: September 28, 2016.

Time: 5:30 p.m., local time.

Location: Sinajana Community Center, 178 Chalan Guma Yu'os, Sinajana, Guam 96910.

Written public comments must be received on or before October 5, 2016.

Federal Domestic Assistance Catalog 11.419 Coastal Zone Management Program Administration

Dated: August 5, 2016.
Josh Lott,
Policy Program Manager, Office for Coastal Management, National Ocean Service, National Oceanic and Atmospheric Administration.

[FR Doc. 2016-19946 Filed 8-19-16; 8:45 am]

BILLING CODE 3510-08-P